DEPARTMENT OF THE INTERIOR

U.S. Geological Survey

Agency Information Collection Activities: Pompeys Pillar Visitor Survey

AGENCY: U.S. Geological Survey (USGS).

ACTION: Notice of a new information collection.

SUMMARY: To comply with the Paperwork Reduction Act of 1995 (PRA), we are notifying the public that we have submitted to OMB a new information collection request (ICR) for approval of the paperwork requirements for an on-site visitor survey to be conducted at Pompeys Pillar National Monument in Billings, Montana. This notice provides the public an opportunity to comment on the paperwork burden of this project.

DATES: You must submit comments on or before July 16, 2009.

ADDRESSES: Please submit written comments on this information collection directly to the Office of Management and Budget (OMB) Office of Information and Regulatory Affairs, Attention: Desk Officer for the Department of the Interior via e-mail [OIRA_DOCKET@omb.eop.gov]; or fax 202-395-5806; and identify your submission as 1028-NEW. Please also submit a copy of your written comments to Phadrea Ponds, USGS Information Collection Clearance Officer, 2150-C Center Avenue, Fort Collins, CO 80525 (mail); (970) 226-9230 (fax); or pponds@usgs.gov (e-mail). Please reference Information Collection 1028-NEW, Pompeys Pillar in the subject line.

FOR FURTHER INFORMATION CONTACT: Lynne Koontz by mail at U.S. Geological Survey, 2150-C Center Avenue, Fort Collins, CO 80526, or by telephone at (970) 226-9384.

SUPPLEMENTARY INFORMATION:

I. Abstract

The USGS is working with the BLM Montana State office to conduct a survey of visitors to Pompeys Pillar National Monument. The information collected will be used by BLM to understand the spending trends of PPNM visitors in the surrounding local communities. This information will also be used to calculate the regional employment and income effects of PPNM visitor spending for the BLM Resource Management Plan analysis. Collection of these data is necessary for a rigorous and objective economic analysis that meets the “hard look” doctrine that has emerged from case law related to NEPA and to meet internal guidelines for credible economic analysis. The USGS will conduct an on-site survey of visitors to PPNM during the summer and fall visitation season (mid July-September).

II. Data

OMB Control Number: None. This is a new collection.

Title: Pompeys Pillar Visitor Survey.

Respondent Obligation: Voluntary.

Frequency of Collection: This is a one-time collection.

Estimated Number and Description of Respondents: Visitors of Pompeys Pillar National Monument.

Estimated Number of Annual Responses: 630.

Estimated Annual Reporting and Recordkeeping “Hour” Burden: 91 hours. We will contact 750 people exiting the recreation area. We anticipate an 80% response rate. We estimate each intercept survey will average 9 minutes per response (600 visitors). We also estimate that it will take 2 minutes per response to respond to three questions of a sample of 30 visitors who decline to take the written survey. These times includes the time for receiving instructions and completing the survey.

Estimated Reporting and Recordkeeping “Non-Hour Cost” Burden: There are no “non-hour cost” burdens associated with this collection of information.

III. Request for Comments

On February 6, 2009, we published a Federal Register notice (74 FR 6305) soliciting comments announcing that we would submit this information to OMB for approval. The comment period closed on April 7, 2009. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publicly available at any time. While you can ask us in your comment to withhold your personal identifying information from public review, we cannot guarantee that we will be able to do so.

Dated: June 9, 2009
Sue Haseltine,
Associate Director for Biology.

[FR Doc. E9-14155 Filed 6-15-09; 8:45 am]

BILLING CODE 4311-AM-P